DEPARTMENT OF COMMERCE.

International Trade Administration

Applications for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before September 25, 2007. Address written comments to Statutory Import Programs Staff, Room 2104, U.S. Department of Commerce, Washington, D.C. 20230. Applications may be examined between 8:30 A.M. and 5:00 P.M. at the U.S. Department of Commerce in Room 2104.

Docket Number: 07-054. Applicant: University of California at Irvine, Reeve-Irvine Research Center, Dept. Of Anatomy & Neurobiology, 837 Health Science Rd., Irvine, CA 92697. Instrument: Electron Microscope, Model JEM&ndash;1400. Manufacturer: JEOL, Ltd., Japan. Intended Use: The instrument is intended to be used for research related to the development of strategies to limit degeneration and enhance regeneration after spinal cord injury and reduce or eliminate the post-traumatic enlargement of spinal cord injury sites that normally occur after traumatic injury. The electron microscope will be used to observe structures and phenomena within laboratory animal tissue. Application accepted by Commissioner of Customs: August 10, 2007.

Docket Number: 07-058. Applicant: Drexel University, 3141 Chestnut Street, Philadelphia, PA 19104. Instrument: Electron Microscope, Model JEM-2100. Manufacturer: Jeol, Ltd., Japan. Intended Use: The instrument is intended to be used to study materials and phenomena that will include metals, ceramics, semiconductors, polymers, biomaterials, atomic diffusion, nanocrystal and thin film growth and evolution, and phase precipitation. The experiments to be conducted involve the high-resolution imaging of nanostructured materials and thin films to evaluate growth mechanisms, crystal structure, and phase stability in inorganic and organic materials and devices. Application accepted by Commissioner of Customs: August 20, 2007.

Docket Number: 07-060. Applicant: University of Pennsylvania School of Dental Medicine, 240 South 40th Street, Philadelphia, PA 19104. Instrument: Electron Microscope, Model H-7650. Manufacturer: Hitachi High-Technologies Corp., Japan. Intended Use: The instrument is intended to be used to study virus entry into cells, extracellular matrix formation and architecture, muscle structure in dystrophic humans and animal models, the sarcolemma structure of bladder smooth muscle cells, animal models of bladder dysfunction, the conformation of a toxin that injures oral cells, the mineral composition of bones and teeth and the structure of the retina. Application accepted by Commissioner of Customs: August 15, 2007.

Docket Number: 07-058. Applicant: Drexel University, 3141 Chestnut Street, Philadelphia, PA 19104. Instrument: Electron Microscope, Model JEM-2100. Manufacturer: Jeol, Ltd., Japan. Intended Use: The instrument is intended to be used to study materials and phenomena that will include metals, ceramics, semiconductors, polymers, biomaterials, atomic diffusion, nanocrystal and thin film growth and evolution, and phase precipitation. The experiments to be conducted involve the high-resolution imaging of nanostructured materials and thin films to evaluate growth mechanisms, crystal structure, and phase stability in inorganic and organic materials and devices. Application accepted by Commissioner of Customs: August 20, 2007.

Faye Robinson,
Director.
Statutory Import Programs Staff Import Administration.

[FR Doc. E7-17516 Filed 9-4-07; 8:45 am]

BILLING CODE 3510-DS-S